CORPORATION FOR NATIONAL AND COMMUNITY SERVICE

Agency Information Collection Activities; Submission to the Office of Management and Budget for Review and Approval; Comment Request; Application Package for AmeriCorps Program Life Cycle Evaluation—Volunteer Generation Fund Grant Program Evaluation

AGENCY: The Corporation for National and Community Service.

ACTION: Notice of information collection; request for comment.

SUMMARY: In accordance with the Paperwork Reduction Act of 1995, the Corporation for National and Community Service, operating as AmeriCorps, is proposing a new information collection.

DATES: Written comments must be submitted to the individual and office listed in the ADDRESSES section by July 16, 2021.

ADDRESSES: You may submit comments, identified by the title of the information collection activity, by any of the following methods:

(1) By mail sent to: AmeriCorps, Attention Lily Zandniapour, 250 E Street SW, Washington, DC 20525.

(2) By hand delivery or by courier to the AmeriCorps mailroom at the mail address given in paragraph (1) above, between 9:00 a.m. and 4:00 p.m. Eastern Time, Monday through Friday, except federal holidays.

(3) Electronically through www.regulations.gov.

Comments submitted in response to this notice may be made available to the public through regulations.gov. For this reason, please do not include in your comments information of a confidential nature, such as sensitive personal information or proprietary information. If you send an email comment, your email address will be automatically captured and included as part of the comment that is placed in the public docket and made available on the internet. Please note that responses to this public comment request containing any routine notice about the confidentiality of the communication will be treated as public comment that may be made available to the public, notwithstanding the inclusion of the routine notice.

FOR FURTHER INFORMATION CONTACT: Xiaodong Zhang, 703-251-0883, or by email at xiaodong.zhang@icf.com.

SUPPLEMENTARY INFORMATION:

Title of Collection: AmeriCorps Program Life Cycle Evaluation—Volunteer Generation Fund Bundled Evaluation.

OMB Control Number: TBD. Type of Review: New.

Respondents/Affected Public: Grantees, program implementers, volunteer organizations and volunteers.

Total Estimated Number of Annual Responses: 971 respondents.

Total Estimated Number of Annual Burden Hours: 327 hours.

Abstract: The purpose of this evaluation is to understand grantees' use of Volunteer Generation Fund (VGF) grant program funds to support volunteer organizations and determine how effective grantees' approaches are at enhancing the capacity of these organizations, increasing volunteer recruitment and retention, and increasing implementation of volunteer management best practices within their states. The research questions for this evaluation are:

1. What are the grantees' approaches for utilizing VGF funds to improve volunteer recruitment, retention, and support of volunteers within their states and among volunteer organizations?

2. What are promising practices and challenges in implementing these programs?

3. What are preliminary outcomes of these programs on volunteer organizations? AmeriCorps will conduct a bundled evaluation of grantees that are implementing VGF grants. Bundling allows AmeriCorps to combine a group of small programs across different funding streams with similar program models and intended outcomes into a single evaluation. Spanning 27 months, the evaluation will work with 15 grantees to examine program design, implementation, and outcomes using surveys, interviews, and focus groups with a wide range of stakeholders including grantee staff, program implementers, volunteers, and beneficiaries. This is a new information collection.

Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. All written comments will be available for public inspection on regulations.gov.

Dated: May 12, 2021.
Lily Zandniapour,
Research and Evaluation Manager.

[FR Doc. 2021-10333 Filed 5-14-21; 8:45 am]

BILLING CODE 6050-28-P